SECURITIES AND EXCHANGE COMMISSION

[Release No. 34-69671; File No. SR-Phlx-2013-59]

Self-Regulatory Organizations; NASDAQ OMX PHLX LLC; Notice of Filing and Immediate Effectiveness of Proposed Rule Change To Apply a Strategy Fee Cap to Jelly Rolls

May 30, 2013.

Correction

In notice document 2013-13274, appearing on pages 33877-33880 in the issue of Wednesday, June 5, 2013, make the following correction:

On page 33877, in the second column, the heading is corrected to read as set forth above.

[FR Doc. C1-2013-13274 Filed 6-13-13; 8:45 am]

BILLING CODE 1505-01-D